DEPARTMENT OF ENERGY

Federal Energy Regulatory Commission

[Docket No. RP13-1080-000]

Chesapeake Energy Marketing, Inc. v. Midcontinent Express Pipeline LLC; Notice of Complaint

Take notice that on July 17, 2013, pursuant to sections 4 and 5 of the Natural Gas Act, 15 U.S.C. 717c and 717d, and Rule 206 of the Rules of Practice and Procedures of the Federal Energy Regulatory Commission (Commission), 18 CFR 385.206, Chesapeake Energy Marketing, Inc. (CEMI or Complainant), filed a complaint against Midcontinent Express Pipeline LLC (MEP or Respondent), alleging that (1) the interpretation and application of the existing language of MEP's FERC Gas tariff is incorrect, unjust, and unreasonable, and (2) request the Commission to require MEP to provide CEMI with the reservation charge credits, as more fully described in the complaint.

The Complainant certify that copies of the complaint were served on the contacts for the Respondent as listed on the Commission's list of Corporate Officials and on parties of the regulatory agencies the Complainants reasonably expect to be affected by this complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 6, 2013.

Dated: July 17, 2013.
Kimberly D. Bose,
Secretary.

[FR Doc. 2013-17731 Filed 7-23-13; 8:45 am]

BILLING CODE 6717-01-P